DEPARTMENT OF THE INTERIOR

Bureau of Land Management

[16X; LLIDB00100.LF1000000.HT0000.LXSS024D0000.241A00]

Notice of Public Meeting, Resource Advisory Council to the Boise District, Bureau of Land Management, U.S. Department of the Interior

AGENCY: Bureau of Land Management, Interior.

ACTION: Notice of public meeting.

SUMMARY: In accordance with the Federal Land Policy and Management Act (FLPMA), the Federal Advisory Committee Act of 1972 (FACA), the U.S. Department of the Interior, Bureau of Land Management (BLM) a Boise, Idaho District Resource Advisory Council (RAC) subcommittee for the Proposed Tri-State Fuels Breaks Project will meet as indicated below.

DATES: On Wednesday, March 2, 2016, a Boise, Idaho District Resource Advisory Council (RAC) subcommittee for the Proposed Tri-State Fuels Breaks Project will meet at the Boise District Office, 3948 S. Development Avenue, Boise, Idaho, 83705. The meeting will begin at 9:00 a.m. and end no later than 3:00 p.m. The public comment period during the RAC subcommittee meeting will take place from 11:00 a.m. to 11:15 a.m.

FOR FURTHER INFORMATION CONTACT: MJ Byrne, Boise District RAC Coordinator, 3948 S. Development Avenue, Boise, Idaho, 83705, (208) 384-3393.

SUPPLEMENTARY INFORMATION: The 15-member RAC advises the Secretary of the Interior, through the Bureau of Land Management, on a variety of planning and management issues associated with public land management in Idaho. During the meeting on Feb. 2, 2016, RAC subcommittee members will be provided with an overview of the Proposed Tri-State Fuels Breaks Project by staff and managers from the Boise District BLM Office, and an overview of the literature research for the project. This will be the first meeting of the subcommittee, so the agenda includes discussion about the purpose for forming the subcommittee, the organization, roles and responsibilities, future coordination with the Southeast Oregon RAC, and anticipated outcomes. A timeline for future subcommittee meetings will be established and the development of recommendations and other products from future meetings for submittal to the BLM will be discussed. Additional information about the RACs is available at http://www.blm.gov/id/st/en/get_involved/resource_advisory/boise.html. RAC meetings are open to the public.

Dated: January 28, 2016.
Lara Douglas,
District Manager.

[FR Doc. 2016-01964 Filed 2-2-16; 8:45 am]

BILLING CODE 4310-GG-P